INTERNATIONAL TRADE COMMISSION

[Investigation No. 337-TA-1114]

Certain Modular LED Display Panels and Components Thereof; Institution of Investigation; Institution of Investigation Pursuant to 19 U.S.C. 1337

AGENCY: U.S. International Trade Commission.

ACTION: Notice.

SUMMARY: Notice is hereby given that a complaint was filed with the U.S. International Trade Commission on March 27, 2018, under section 337 of the Tariff Act of 1930, as amended, on behalf of Ultravision Technologies, LLC of Dallas, Texas. An amended complaint was filed on April 16, 2018. Supplements were filed on May 7, 2018 and May 8, 2018. The amended complaint, as supplemented, alleges violations of section 337 based upon the importation into the United States, the sale for importation, and the sale within the United States after importation of certain modular LED display panels and components thereof by reason of infringement of certain claims of U.S. Patent No. 9,349,306 (“the '306 Patent”) and U.S. Patent No. 9,916,782 (“the '782 Patent”). The amended complaint further alleges that an industry in the United States exists or is in the process of being established as required by the applicable Federal Statute.

The complainant requests that the Commission institute an investigation and, after the investigation, issue a general exclusion order, or in the alternative a limited exclusion order, and (a) cease and desist order(s).

ADDRESSES: The amended complaint, as supplemented, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337 and in section 210.10 of the Commission's Rules of Practice and Procedure, 19 CFR 210.10 (2018).

Scope of Investigation: Having considered the amended complaint, the U.S. International Trade Commission, on May 23, 2018, ordered that—

(1) Pursuant to subsection (b) of section 337 of the Tariff Act of 1930, as amended, an investigation be instituted to determine whether there is a violation of subsection (a)(1)(B) of section 337 in the importation into the United States, the sale for importation, or the sale within the United States after importation of certain modular LED display panels and components thereof by reason of infringement of one or more of claims 1, 3-10, 12-14, 16-19, 21-23, and 25-27 of the '306 patent and claims 1-6, 9-14, 16, and 22-28 of the '782 patent; and whether an industry in the United States exists or is in the process of being established as required by subsection (a)(2) of section 337;

(2) For the purpose of the investigation so instituted, the following are hereby named as parties upon which this notice of investigation shall be served:

(a) The complainant is: Ultravision Technologies, LLC, 4542 McEwen Road, Dallas, TX 75244.

(b) The respondents are the following entities alleged to be in violation of section 337, and are the parties upon which the complaint is to be served:

Shenzhen Absen Optoelectronic Co., Ltd, 18-20F Building 3A, Cloud Park, Bantian, Longgang District, Shenzhen, 518129, China

Absen, Inc., 7120 Lake Ellenor Drive, Orlando, Florida 32809

Shenzhen AOTO Electronics Co., Ltd, 9-10/F, United Headquarters Mansion, N0.63 Xuefu Road, Hi-Tech Zone, Nanshan in Shenzhen, China

AOTO Electronics (US) LLC, 12 Hughes, #D-100, Irvine, California 92618

Barco NV, Barco One Campus Beneluxpark 21, BE-8500 Kortrijk, Belgium

Barco Inc., 3059 Premiere Parkway, Duluth, Georgia 30097

Cirrus Systems, Inc., 47 Spring Hill Road, Saco, Maine 04072

CreateLED Electronics Co. Ltd., F1-F2, Taijiale Industry Area, Tongguan Road, Western District, High-Tech Industrial Park, Guangdong Province, Shenzhen 518132 China

CreateLED USA LLC, 4000 W. Ali Baba Lane, Suite B, Las Vegas, Nevada 89118

digiLED (UK) Limited, formerly displayLED (HK) Limited, The Pixel Depot, Copse Farm, Moorhurst Lane, Beare Green, Near Dorking, Surrey RH5 4LJ, United Kingdom

Elation Lighting, Inc., d/b/a Elation Professional, 6122 S. Eastern Avenue, Los Angeles, California 90040

General Link International Cooperation Inc., 510 Coralridge Place, Suite 101, Industry, California 91746

GLIC LED Displays Inc., 510 Coralridge Place, Suite 101, Industry, California 91746

Glux Visual Effects Tech (Shenzhen) Co., Donghuan 2nd Road, Longhua District, Shenzhen, Guangdong, China

LEDMan Optoelectronic Co., Ltd., Building 8, Block 2, Baimang Baiwangxin Industrial Park, Xili Area, Nanshan District, Shenzhen, China

Shenzhen Liantronics Co. Ltd., Liantronics Building, Antongda Industrial Zone, 3rd Liuxian Road, 68 Block Baoan, Shenzhen, China

Liantronics, LLC, 46722 Fremont Boulevard, Fremont, California 94538

Lighthouse Technologies (Hong Kong) Limited, Unit 608, 6/F, Photonics Centre, 2 Science Park East Avenue, Hong Kong Science Park, New Territories, Hong Kong

Shenzhen Mary Photoelectricity Co., Ltd., No. 4F, Meishengchuanggu Tech Park, 10th Longchang Road, Xin'an Street, Bao'an District, Shenzhen City, Guangdong Province, China

MRLED Inc., 377 S. Lemon Avenue, Suite E, Walnut, California 91789

Prismaflex International France S.A., 309 Route de Lyon, CS 50001, 69610 Haute-Rivoire, France

Prismaflex USA, Inc., 113 West Broad Street, Elizabethtown, North Carolina 28337

Rocketsign Hong Kong Ltd., RM 1601, The Sun's Group Center, Gloucester Road 200, Hong Kong

Shanghai Sansi Electronic Engineering Co., Ltd., 1280 Shuying Road, Shanghai, 201100, China

Sansi North America, LLC, 1500 Broadway, Suite 901, New York, New York 10036

Shenzhen Spectrum Technology Co., Ltd., 4C 123, Trade Plaza One, China South City, Pinghu Town, Longgang District, Shenzhen, China

Unilumin Group Co., Ltd., 112 Yongfu Road, Qiaotou Village, Fuyong Town, Baoan District, Shenzhen 518103 China

Unilumin LED Technology FL LLC, 8350 Parkline Boulevard, Unit #15, Orlando, Florida 32809

Yaham Optoelectronics Co., Ltd., #118 Yongfu Road, Qiaotou Community, Fuyong, Baoan District, Shenzhen, China 518103

Yaham LED U.S.A., Inc., 4058 Dean Martin Boulevard, Las Vegas, Nevada 89103

Formetco Inc., 2963 Pleasant Hill Road, Duluth, Georgia 30096

Leyard Optoelectronic Co., No. 9 Zhenghongqi West Street, North of Summer Palace, Haidian District, Beijing, China

Leyard American Corporation, 1692 Barclay Boulevard, Buffalo Grove, Illinois 60089

NanoLumens Inc., 4900 Avalon Ridge Parkway, Peachtree Corners, Georgia 30071

NEC Display Solutions, Ltd., Mita Kokusai Building, 4-28, Mita 1-chome, Minato-ku, Tokyo 108-0073 Japan

NEC Display Solutions of America, Inc., 500 Park Boulevard, Suite 1100, Itasca, Illinois 60143

Panasonic Corporation, 1006, Oaza Kadoma, Kadoma City, Osaka, Japan

Panasonic Corporation of North America, Two Riverfront Plaza, 828 McCarter Highway, Newark, New Jersey 07102

Vanguard LED Displays, Inc., formerly Aeson LED Display Technologies, Inc., 4190 Waring Road, Unit 101, Lakeland, Florida 33811

GoVision, LLC, 8291 Gateway Drive, Suite #100, Argyle, Texas 76226

(c) The Office of Unfair Import Investigations, U.S. International Trade Commission, 500 E Street SW, Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: May 24, 2018.
William Bishop,
Supervisory Hearings and Information Officer.

[FR Doc. 2018-11664 Filed 5-30-18; 8:45 am]

BILLING CODE 7020-02-P